NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 14, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Defense, National Geospatial Intelligence Agency (N1-537-05-4, 15 items, 10 temporary items). Imagery policy files. Also included are electronic copies of records created using electronic mail and word processing. Proposed for permanent retention are recordkeeping copies of satellite and airborne imagery policy decisions, foreign arrangements, and other applications of imagery records maintained by the office of primary responsibility. This schedule authorizes the agency to apply the proposed disposition instructions to any recordkeeping medium.

2. Department of Defense, National Security Agency-Central Security Service (N1-457-05-1, 3 items, 3 temporary items). Case files and other records relating to employee counseling and consultation services.

3. Department of Energy, Bonneville Power Administration (N1-305-05-1, 4 items, 4 temporary items). Records relating to agency transmission policies, guidelines, and instructions. Included are such records as memoranda, manuals, rate schedules, and correspondence. Also included are electronic copies of records created using electronic mail and word processing. This schedule authorizes the agency to apply the proposed disposition instructions to any recordkeeping medium.

4. Department of Homeland Security, U.S. Coast Guard (N1-26-05-8, 6 items, 6 temporary items). Case files and other records relating to claims of child and spouse abuse. Also included are electronic copies of records created using electronic mail and word processing.

5. Department of Homeland Security, U.S. Customs and Border Protection (N1-568-05-1, 8 items, 6 temporary items). Inputs, outputs, backups, and electronic mail and word processing copies associated with an electronic system that contains harmonized tariff numbers used by customs to calculate duties for imported and exported commodities. Proposed for permanent retention are recordkeeping copies of master files and system documentation. This schedule authorizes the agency to apply the proposed disposition instructions to any recordkeeping medium.

6. Department of Homeland Security, U.S. Customs and Border Protection (N1-568-05-2, 14 items, 10 temporary items). Inputs, outputs, backups, and electronic mail and word processing copies associated with an electronic information system that tracks the importation of goods into the U.S. by sea, air, and rail. Proposed for permanent retention are recordkeeping copies of master files and system documentation. This schedule authorizes the agency to apply the proposed disposition instructions to any recordkeeping medium.

7. Department of the Interior, Office of the Secretary (N1-48-05-9, 16 items, 8 temporary items). Files of the Illinois and Michigan Canal National Heritage Corridor Commission. Records include commission member appointment documents, grant administrative records, audits and closed loan files, electronic copies of photographs, web content records, and electronic copies of documents created using electronic mail and word processing. Proposed for permanent retention are recordkeeping copies of commission minutes, commission meeting correspondence and committee records, policy and bylaws, reports, photographic prints, executive director subject files, and publications. Notice concerning this schedule was previously published in the May 23, 2005 issue of the Federal Register. It is being republished because additional items are now proposed as temporary.

8. Department of the Interior, Minerals Management Service (N1-473-05-1, 9 items, 9 temporary items). Records of the Minerals Revenue Management division involving royalty-in-kind sales or exchanges of oil or gas, as well as related financial matters. Included are letters to industry personnel, sales or exchange files, company credit evaluations and exposure determinations, and contracts. Also included are electronic copies of documents created using electronic mail and word processing.

9. Department of the Interior, Minerals Management Service (N1-473-05-2, 3 items, 2 temporary items). Records of the Minerals Revenue Management division relating to mineral leasing claims and legal proceedings, including electronic copies of documents created using electronic mail and word processing. Proposed for permanent retention are recordkeeping copies of claims and litigation files involving Indian lands.

10. Department of Justice, Environment and Natural Resources Division (N1-60-05-6, 7 items, 4 temporary items). Inputs, outputs, and electronic mail and word processing copies associated with an electronic system used to track litigation cases undertaken by the Division. Proposed for permanent retention are master files, including a public-use version, and the system documentation.

11. Department of Justice, Office of the Solicitor General (N1-60-05-7, 5 items, 3 temporary items). Outputs and electronic mail and word processing copies associated with an electronic system used to track case work of the Office. Proposed for permanent retention are master files and the system documentation.

12. Department of Justice, Bureau of Prisons (N1-129-05-16, 9 items, 9 temporary items). Inputs, outputs, master files, documentation, and electronic mail and word processing copies associated with two electronic systems used to manage, track, and record inmate telephone calls.

13. Department of the Transportation, Federal Motor Carrier Safety Administration (N1-557-05-3, 41 items, 41 temporary items). Administrative records relating to financial processing and operations, budget, and disbursement. Included are accounts receivable files, financial management files, and reimbursable agreement files. Also included are electronic copies of documents created using electronic mail and word processing. This schedule authorizes the agency to apply the proposed disposition instructions to any recordkeeping medium.

14. Department of Transportation, Federal Motor Carrier Safety Administration (N1-557-05-10, 23 items, 23 temporary items). Records accumulated by the Office of Civil Rights, including such files as affirmative action plans, program subject files, reference materials, and files associated with Title VI non-discrimination monitoring and enforcement. Also included are electronic copies of records created using electronic mail and word processing. This schedule authorizes the agency to apply the proposed disposition instructions to any recordkeeping medium.

15. Department of the Treasury, U.S. Mint (N1-104-05-3, 9 items, 9 temporary items). Records accumulated in the Chief Information Office relating to Year 2000 Compliance. Included are policy and planning records, forms and reports used to verify system compliance, meeting minutes, and agency web site pages that contain copies of progress reports and related materials. Also included are electronic copies of records created using electronic mail and word processing.

16. Consumer Product Safety Commission, (N1-424-05-1, 5 items, 4 temporary items). Reports, correspondence, notes, recommendations, and related documents that pertain to citations, seizures, and other legal actions. Also included are electronic copies of records created using electronic mail and word processing. Recordkeeping copies of these files are proposed for permanent retention.

17. National Archives and Records Administration, Government-wide (N1-GRS-05-2, 2 items, 2 temporary items). Addition to General Records Schedule 3, Procurement, Supply, and Grant Records (including email and word processing copies), for records documenting the implementation of the Federal Activities Inventory Reform Act of 1998, Public Law 105-270, formerly known as the Office of Management and Budget Circular No. A-76, Performance of Commercial Activities (revised). Included are recordkeeping copies of case files and studies, and information copies and background materials maintained by other offices.

18. Small Business Administration, Office of Surety Guarantees (N1-309-04-07, 6 items, 4 temporary items). Outputs, backups, and electronic mail and word processing copies associated with the Surety Bond Guarantee/Preferred Surety Bond Guarantee System, which maintains an accounting of contingent liabilities, fee receivables, claim payables, and other related income and expense information. Proposed for permanent retention are master files and the system documentation.

19. Tennessee Valley Authority, Agency-wide (N1-142-05-2, 3 items, 3 temporary items). Electronic copies of records created using electronic mail and word processing that are associated with agency employee and contractor training. This schedule also extends the retention periods for recordkeeping copies of these files, which were previously approved for disposal.

Dated: August 23, 2005.
Michael J. Kurtz,
Assistant Archivist for Records Services—Washington, DC.

[FR Doc. 05-17157 Filed 8-29-05; 8:45 am]

BILLING CODE 7515-01-P